DEPARTMENT OF COMMERCE

National Oceanic and Atmospheric Administration

[RTID 0648-XV178]

Notice of Availability of the Deepwater Horizon Oil Spill Louisiana Trustee Implementation Group Draft Phase II Restoration Plan and Environmental Assessment #3.3: Large-Scale Barataria Marsh Creation: Upper Barataria Component

AGENCY: National Marine Fisheries Service (NMFS), National Oceanic and Atmospheric Administration (NOAA), Department of Commerce.

ACTION: Notice of availability; request for comments.

SUMMARY: In accordance with the Oil Pollution Act of 1990 (OPA), the National Environmental Policy Act (NEPA), and a Consent Decree with BP Exploration & Production Inc. (BP),¹ the Deepwater Horizon Federal natural resource trustee agencies for the Louisiana Trustee Implementation Group (Louisiana TIG) have prepared a Draft Phase II Restoration Plan 3.3 and Environmental Assessment (Draft RP/EA #3.3). The Draft RP/EA #3.3 describes and proposes restoration project alternatives considered by the Louisiana TIG to restore natural resources and ecological services injured or lost as a result of the Deepwater Horizon oil spill. The Louisiana TIG evaluated these alternatives under criteria set forth in the OPA natural resource damage assessment regulations, and also evaluated the environmental consequences of the restoration alternatives in accordance with NEPA. The purpose of this notice is to inform the public of the availability of the Draft RP/EA #3.3 and to seek public comments on the document.

¹ Consent Decree among Defendant BP Exploration & Production Inc. (“BPXP”), the United States of America, and the States of Alabama, Florida, Louisiana, Mississippi, and Texas entered in In re: Oil Spill by the Oil Rig “Deepwater Horizon” in the Gulf of Mexico, on April 20, 2010, MDL No. 2179 in the United States District Court for the Eastern District of Louisiana.

DATES: The Louisiana TIG will consider public comments received on or before April 20, 2020.

Public Webinar: The Louisiana TIG will conduct a public webinar on April 2, 2020 at 4:00 Central. The public may register for the webinar at https://attendee.gotowebinar.com/register/851376447936188428. After registering, participants will receive a confirmation email with instructions for joining the webinar. The webinar will include a presentation of the Draft RP/EA #3.3 and opportunity for public comment. The presentation slides will be posted on the web shortly after the webinar is completed. Comments will also be taken through submission online or through U.S. mail (see Submitting Comments below).

ADDRESSES: Obtaining Documents: You may download the Draft RP/EA #3.3 at: http://www.gulfspillrestoration.noaa.gov/restoration-areas/louisiana. Alternatively, you may request a CD of the Draft RP/EA #3.3 (see FOR FURTHER INFORMATION CONTACT below). Also, you may view the document at any of the public facilities listed in Appendix A of the Draft RP/EA #3.3.

Submitting Comments: You may submit comments on the Draft RP/EA #3.3 by one of the following methods:

• Via the Web: http://www.gulfspillrestoration.noaa.gov/restoration-areas/louisiana;

• Via U.S. Mail: U.S. Fish and Wildlife Service, P.O. Box 29649, Atlanta, GA 30345. Please note that mailed comments must be postmarked on or before the comment deadline of 30 days following publication of this notice to be considered; or

• During the public webinar: Comments may be provided in writing online during the webinar. Webinar information is provided above in DATES.

Before including your address, phone number, email address, or other personal identifying information in your comment, you should be aware that your entire comment—including your personal identifying information—may be made publicly available at any time. While you can ask us in your comment to withhold your personal identifying information from public review, we cannot guarantee that we will be able to do so.

FOR FURTHER INFORMATION CONTACT: National Oceanic and Atmospheric Administration—Mel Landry, NOAA Restoration Center, 225-425-0583, mel.landry@noaa.gov.

SUPPLEMENTARY INFORMATION:

Introduction

On April 20, 2010, the mobile offshore drilling unit Deepwater Horizon, which was being used to drill a well for BP Exploration and Production, Inc. (BP), in the Macondo prospect (Mississippi Canyon 252-MC252), experienced a significant explosion, fire, and subsequent sinking in the Gulf of Mexico, resulting in an unprecedented volume of oil and other discharges from the rig and from the wellhead on the seabed. The Deepwater Horizon oil spill is the largest off shore oil spill in U.S. history, discharging millions of barrels of oil over a period of 87 days. In addition, well over one million gallons of dispersants were applied to the waters of the spill area in an attempt to disperse the spilled oil. An undetermined amount of natural gas was also released into the environment as a result of the spill.

The Deepwater Horizon Federal and State natural resource trustees (DWH Trustees) conducted the natural resource damage assessment (NRDA) for the Deepwater Horizon oil spill under OPA (OPA; 33 U.S.C. 2701 et seq.). Pursuant to OPA, Federal and State agencies act as trustees on behalf of the public to assess natural resource injuries and losses and to determine the actions required to compensate the public for those injuries and losses. OPA further instructs the designated trustees to develop and implement a plan for the restoration, rehabilitation, replacement, or acquisition of the equivalent of the injured natural resources under their trusteeship, including the loss of use and services from those resources from the time of injury until the time of restoration to baseline (the resource quality and conditions that would exist if the spill had not occurred) is complete.

The Deepwater Horizon Trustees are:

• U.S. Department of the Interior (DOI), as represented by the National Park Service, U.S. Fish and Wildlife Service, and Bureau of Land Management;

• National Oceanic and Atmospheric Administration (NOAA), on behalf of the U.S. Department of Commerce;

• U.S. Department of Agriculture (USDA);

• U.S. Environmental Protection Agency (EPA);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• State of Texas: Texas Parks and Wildlife Department, Texas General Land Office, and Texas Commission on Environmental Quality.

The Trustees reached and finalized a settlement of their natural resource damage claims with BP in an April 4, 2016, Consent Decree approved by the United States District Court for the Eastern District of Louisiana. Pursuant to that Consent Decree, restoration projects in the Louisiana Restoration Area are now selected and implemented by the Louisiana TIG. The Louisiana TIG is composed of the following Federal Trustees: NOAA; DOI; EPA; and USDA.

This restoration planning activity is proceeding in accordance with the PDARP/PEIS. Information on the Restoration Type being considered in the Draft RP/EA #3.3, as well as the OPA criteria against which project ideas are being evaluated, can be viewed in the PDARP/PEIS (http://www.gulfspillrestoration.noaa.gov/restoration-planning/gulf-plan) and in the Overview of the PDARP/PEIS (http://www.gulfspillrestoration.noaa.gov/restoration-planning/gulf-plan).

Background

On March 20, 2018, the Louisiana TIG completed its Strategic Restoration Plan and Environmental Assessment #3: Restoration of Wetlands, Coastal, and Nearshore Habitats in the Barataria Basin, Louisiana (SRP/EA #3). In addition to identifying a restoration strategy for the Barataria Basin and confirming its 2018 decision to move forward the Spanish Pass Increment of the Barataria Basin Ridge and Marsh Creation project, the SRP/EA also advanced the Mid-Barataria Sediment Diversion and Large Scale Marsh Creation: Component E in northern Barataria Basin for further evaluation and planning in a future Phase II restoration plan. After approval of the SRP/EA #3, engineering and design (E&D) was initiated for the Large Scale Marsh Creation: Component E. A portion of that project, now identified as Large Scale Barataria Marsh Creation: Upper Barataria Component, is now at a stage of E&D where NEPA analyses can be conducted on the design alternatives. Therefore, tiering from the SRP/EA #3, the Louisiana TIG is proposing in RP/EA #3.3 implementation of the Large-Scale Barataria Marsh Creation: Upper Barataria Component Restoration project.

Overview of the Louisiana TIG Draft RP/EA #3.3

The Draft RP/EA #3.3 is being released in accordance with OPA NRDA regulations in the Code of Federal Regulations (CFR) at 15 CFR part 990, NEPA (42 U.S.C. 4321 et seq.), the Consent Decree, and the Final PDARP/PEIS. The Draft RP/EA #3.3 focuses on an area (“the Project Area”) in the upper Barataria Basin, 15 miles (24 km) south of New Orleans, in Jefferson and Plaquemines Parishes, Louisiana, from approximately 5.4 miles (8.7km) west of the Mississippi River to the Mississippi River between river miles (RM) 64 and 67. In the Draft RP/EA #3.3, the Louisiana TIG proposes a preferred design alternative for the Large-Scale Marsh Creation Project: Component E in Upper Barataria, to be funded under the DWH Louisiana Restoration Area Wetlands, Coastal and Nearshore Habitats restoration type allocation. Three alternatives and the No Action alternative are analyzed in detail. The preferred alternative would include filling of a combination of marsh creation areas (MCAs) for the creation of approximately 1,207 acres (12.1 km²) of intertidal marsh platform with a design life of 20 years. A total of approximately 10.6 million cubic yards (MCY) of fill (sediment), comprising 8.4 MCY of currently available material to be dredged from the borrow areas and an additional 2.2 MCY expected to accumulate at the borrow areas during the construction time frame. This alternative would require a single construction mobilization and has an estimated time frame of 26 months for an estimated total project cost of approximately $172 million, inclusive of Phase I design, construction, contingency, project management, and monitoring & adaptive management.

Alternative 2 (Non-preferred). This alternative would include filling a combination of MCAs for the creation of approximately 944 acres (3.8 km²) of intertidal marsh platform (fewer MCAs than Alternative 1) for a project lifetime of 20 years. Approximately 8.4 MCY of sediment (currently available) would be immediately available for use from the proposed borrow areas. Project construction time is an estimated 24 months and would require a single construction mobilization for an estimated cost of approximately $126 million.

Alternative 3 (Non-preferred). This alternative would include filling a combination of MCAs for the creation of approximately 1,792 acres (7.3 km²) of intertidal marsh platform (more acres than Alternative 1) for a project lifetime of 20 years. Approximately 13.8 MCY of sediment would be needed, which could require waiting for an additional 5.42 MCY of sediment to accumulate at the proposed borrow areas. This alternative would require two mobilizations with an anticipated project construction time of 2 to 3 years for an estimated cost of approximately $201 million.

No Action Alternative (Non-preferred). Under this alternative, the proposed project would not be constructed with the current funding.

The Louisiana TIG has examined the injuries assessed by the DWH Trustees and evaluated restoration alternatives to address the injuries. In Draft RP/EA #3.3, the Louisiana TIG presents to the public its draft plan for providing partial compensation to the public for injured natural resources and ecological services in the Louisiana Restoration Area. The proposed alternative is intended to continue the process of using DWH restoration funding to restore natural resources injured or lost as a result of the Deepwater Horizon oil spill. Additional restoration planning for the Louisiana Restoration Area will continue.

Next Steps

The public is encouraged to review and comment on the Draft RP/EA #3.3. A public webinar is scheduled to facilitate the public review and comment process. After the public comment period ends, the Louisiana TIG will consider and address the comments received before issuing a Final RP/EA #3.3. A summary of comments received and the Louisiana TIG's responses and any revisions to the document, as appropriate, will be included in the final document.

Administrative Record

The documents comprising the Administrative Record for the Draft RP/EA #3.3 can be viewed electronically at http://www.doi.gov/deepwaterhorizon/adminrecord.

Authority

The authority of this action is the Oil Pollution Act of 1990 (33 U.S.C. 2701 et seq.) and its implementing Oil Pollution Act Natural Resource Damage Assessment regulations found at 15 CFR part 990 and the National Environmental Policy Act of 1969 (42 U.S.C. 4321 et seq.).

Dated: March 16, 2020.
Carrie Selberg,
Director, Office of Habitat Conservation, National Marine Fisheries Service.

[FR Doc. 2020-05740 Filed 3-19-20; 8:45 am]

BILLING CODE 3510-22-P